OFFICE OF THE UNITED STATES TRADE REPRESENTATIVE

Determination Regarding Waiver of Discriminatory Purchasing Requirements With Respect to Goods and Services Covered by Chapter 9 of the Dominican Republic-Central America-United States Free Trade Agreement for the Dominican Republic

AGENCY: Office of the United States Trade Representative.

ACTION: Determination Regarding Waiver of Discriminatory Purchasing Requirements under the Trade Agreements Act of 1979.

DATES: Effective Date: March 1, 2007.

FOR FURTHER INFORMATION CONTACT: Jean Heilman Grier, Senior Procurement Negotiator, Office of the United States Trade Representative, (202) 395-9476.

SUPPLEMENTARY INFORMATION: On August 5, 2004, the United States and the Dominican Republic entered into the Dominican Republic-Central America-United States Free Trade Agreement (“the CAFTA-DR”). Chapter 9 of the CAFTA-DR sets forth certain obligations with respect to government procurement of goods and services, as specified in Annex 9.1.2(b)(i) of the CAFTA-DR. On August 2, 2005, the President signed into law the Dominican Republic-Central America-United States Free Trade Agreement Implementation Act (“the Act”) (Pub. L. No. 109-53, 119 Stat. 462). In section 101(a) of the Act, the Congress approved the CAFTA-DR. The CAFTA-DR will enter into force on March 1, 2007, for the Dominican Republic.

Section 1-201 of Executive Order 12260 of December 31, 1980 delegated the functions of the President under Sections 301 and 302 of the Trade Agreements Act of 1979 (“the Trade Agreements Act”) (19 U.S.C. 2511, 2512) to the United States Trade Representative.

Determination: In conformity with sections 301 and 302 of the Trade Agreements Act, and in order to carry out U.S. obligations under the CAFTA-DR, I hereby determine that:

1. The Dominican Republic is a country, other than a major industrialized country, which, pursuant to the CAFTA-DR, will provide appropriate reciprocal competitive government procurement opportunities to United States products and services and suppliers of such products and services. In accordance with Section 301(b)(3) of the Trade Agreements Act, the Dominican Republic is so designated for purposes of Section 301(a) of the Trade Agreements Act.

2. Accordingly, beginning on March 1, 2007, with respect to eligible products (namely, those goods and services covered under the CAFTA-DR for procurement by the United States) of the Dominican Republic and suppliers of such products, the application of any law, regulation, procedure, or practice regarding government procurement that would, if applied to such products and suppliers, result in treatment less favorable than that accorded—

(A) To United States products and suppliers of such products; or

(B) To eligible products of another foreign country or instrumentality which is a party to the Agreement on Government Procurement referred to in section 101(d)(17) of the Uruguay Round Agreements Act (19 U.S.C. 3511(d)(17)) and suppliers of such products, shall be waived. This waiver shall be applied by all entities listed in the Schedule of the United States to Section A of Annex 9.1.2(b)(i) and in List A of Section C of Annex 9.1.2(b)(i) of the CAFTA-DR.

3. The Trade Representative may modify or withdraw the designation in paragraph 1 and the waiver in paragraph 2.

Dated: February 28, 2007.
Susan C. Schwab,
United States Trade Representative.

[FR Doc. E7-4020 Filed 3-6-07; 8:45 am]

BILLING CODE 3190-W7-P